DEPARTMENT OF ENERGY

[Docket No. RP00-423-002]

Discovery Gas Transmission LLC; Notice of Compliance Filing

September 19, 2000.

Take notice that on September 13, 2000, Discovery Gas Transmission LLC (Discovery) tendered for filing as part of its FERC Gas Tariff, Original Volume No. 1, the following substitute tariff sheets to comply with the Commission's letter order issued in the captioned proceeding on August 25, 2000, which accepted these tariff sheets to be effective March 27, 2000. The substitute tariff sheets revised the issue date and effective date of the tariff sheets, but contain no textual changes.

Substitute Second Revised Sheet No. 151

Substitute Second Revised Sheet No. 152

Substitute Original Sheet No. 152A

Substitute Third Revised Sheet No. 154

Substitute Original Sheet No. 154A

Substitute Third Revised Sheet No. 155

Substitute Second Revised Sheet No. 156

Discovery states that copies of this filing are being mailed to its customers, state commissions and other interested parties.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http//www.ferc.fed.us/online/rims.htm (call 202-208-2222 for assistance).

David P. Boergers,
Secretary.

[FR Doc. 00-24517 Filed 9-22-00; 8:45 am]

BILLING CODE 6717-01-M